DEPARTMENT OF COMMERCE

International Trade Administration

A-549-813

Canned Pineapple Fruit from Thailand: Initiation of New Shipper Antidumping Duty Review

AGENCY: Import Administration, International Trade Administration, Department of Commerce.

EFFECTIVE DATE: March 1, 2007.

FOR FURTHER INFORMATION CONTACT: Myrna Lobo or Martha Douthit, AD/CVD Operations, Office 6, Import Administration, International Trade Administration, U.S. Department of Commerce, 14th Street and Constitution Avenue, NW., Washington, DC 20230; telephone: (202) 482-2371 or (202) 482-5050, respectively.

SUPPLEMENTARY INFORMATION:

Background

The Department of Commerce (the Department) received a timely request from C & A Products Co., Ltd. (C&A), in accordance with 19 CFR 351.214(c), for a new shipper review of the antidumping duty order on canned pineapple fruit (CPF) from Thailand. See Notice of Antidumping Duty Order and Amended Final Determination: Canned Pineapple Fruit from Thailand, 60 FR 36775 (July 18, 1995). C&A identified itself as the producer and exporter of subject merchandise.

As required by 19 CFR 351.214(b)(2)(i),(ii), and (iii)(A), C&A certified it did not export CPF to the United States during the period of investigation (POI), and that it has never been affiliated with any exporter or producer that exported CPF during or after the POI. It also submitted documentation establishing the date on which C&A first shipped the subject merchandise to the United States, the volume of that first and any subsequent shipments, and the date of C&A's first sale to an unaffiliated customer in the United States. C&A states it cannot report the first entry date because the sale was to an unaffiliated customer.

Initiation of Review

In accordance with section 751(a)(2)(B) of the Tariff Act of 1930, as amended (the Act), and 19 CFR 351.214(d)(1), and based on information on the record, we are initiating a new shipper review for C&A. See Memorandum to the File through Barbara E. Tillman, Director, AD/CVD Operations Office 6, Import Administration from the Team, “New Shipper Review Initiation Checklist,” dated February 21, 2007 on file in the Central Records Unit, room B-099, of the main Commerce building. We intend to issue the preliminary results of this review not later than 180 days after the date on which this review is initiated, and the final results of this review within 90 days after the date on which the preliminary results are issued.

Pursuant to 19 CFR 351.214(g)(1)(i)(B), the POR for a new shipper review initiated in the month immediately following the semiannual anniversary month will be the six-month period immediately preceding the semiannual anniversary month. Therefore, the POR for this new shipper review is July 1, 2006 through December 31, 2006.

Interested parties seeking access to proprietary information in this new shipper review should submit applications for disclosure under administrative protective order in accordance with 19 CFR 351.305 and 351.306. This initiation and notice are in accordance with section 751(a) of the Act and 19 CFR 351.214(d).

Dated: February 22, 2007.
Stephen J. Claeys,
Deputy Assistant Secretary for Import Administration.

[FR Doc. E7-3511 Filed 2-28-07; 8:45 am]

BILLING CODE 3510-DS-S